DEPARTMENT OF THE INTERIOR

National Park Service

[NPS-WASO-NAGPRA-23695; PPWOCRADN0-PCU00RP14.R50000]

Notice of Intent To Repatriate Cultural Items: The Fort Worth Museum of Science and History, Fort Worth, TX

AGENCY: National Park Service, Interior.

ACTION: Notice.

SUMMARY: The Fort Worth Museum of Science and History, in consultation with the appropriate Indian Tribes or Native Hawaiian organizations, has determined that the cultural items listed in this notice meet the definition of objects of cultural patrimony. Lineal descendants or representatives of any Indian Tribe or Native Hawaiian organization not identified in this notice that wish to claim these cultural items should submit a written request to The Fort Worth Museum of Science and History. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to The Fort Worth Museum of Science and History at the address in this notice by September 27, 2017.

ADDRESSES: Chanin Voss Scanlon, The Fort Worth Museum of Science and History, 1600 Gendy Street, Fort Worth, TX 76107, telephone (817) 255-9300, email cscanlon@fwmsh.org.

SUPPLEMENTARY INFORMATION: Notice is here given in accordance with the Native American Graves Protection and Repatriation Act (NAGPRA), 25 U.S.C. 3005, of the intent to repatriate cultural items under the control of The Fort Worth Museum of Science and History that meet the definition of objects of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item

On February 15, 1978, The Fort Worth Museum of Science and History acquired one yucca, stair-step basket, object identification number 31N.00139, from Lew Meekins. No other provenance information is available.

Museum accession and catalog records, as well as consultations with a representative of the Santa Rosa Rancheria Tachi Tribe, in Lemoore, CA, indicated that the basket is of Yokut design, and would have been utilized during the Tribe's Traditional Coming of Age Ceremonies. The representative of the Santa Rosa Rancheria Tachi Tribe also provided supporting ethnographic documentation for the cultural significance of the object.

Determinations Made by The Fort Worth Museum of Science and History

Officials of The Fort Worth Museum of Science and History have determined that:

• Pursuant to 25 U.S.C. 3001(3)(D), the 1 cultural item described above has ongoing historical, traditional, or cultural importance central to the Native American group or culture itself, rather than property owned by an individual.

• Pursuant to 25 U.S.C. 3001(2), there is a relationship of shared group identity that can be reasonably traced between the object of cultural patrimony and the Santa Rosa Indian Community of the Santa Rosa Rancheria, California.

Additional Requestors and Disposition

Lineal descendants or representatives of any Indian Tribe or Native Hawaiian organization not identified in this notice that wish to claim these cultural items should submit a written request with information in support of the claim to Chanin Voss Scanlon, The Fort Worth Museum of Science and History, 1600 Gendy Street, Fort Worth, TX 76107, telephone (817) 255-9300, email cscanlon@fwmsh.org, by September 27, 2017. After that date, if no additional claimants have come forward, transfer of control of the object of cultural patrimony to the Santa Rosa Indian Community of the Santa Rosa Rancheria, California, may proceed.

The Fort Worth Museum of Science and History is responsible for notifying the Santa Rosa Indian Community of the Santa Rosa Rancheria, California, that this notice has been published.

Dated: July 3, 2017.
Melanie O'Brien,
Manager, National NAGPRA Program.

[FR Doc. 2017-18185 Filed 8-25-17; 8:45 am]

BILLING CODE 4312-52-P